DEPARTMENT OF AGRICULTURE

Grain Inspection, Packers and Stockyards Administration

[00-A-W]

Designation of Springfield (IL) to provide Class X or Class Y Weighing Services

AGENCY: Grain Inspection, Packers and Stockyards Administration (GIPSA).

ACTION: Notice.

SUMMARY: GIPSA announces the designation of Springfield Grain Inspection, Inc. (Springfield), to provide Class X or Class Y weighing services under the United States Grain Standards Act, as amended (Act), in the Springfield geographic area.

EFFECTIVE DATE: March 1, 2000.

ADDRESSES: USDA, GIPSA, Janet M. Hart, Chief, Review Branch, Compliance Division, STOP 3604, Room 1647-S, 1400 Independence Avenue, S.W., Washington, DC 20250-3604.

FOR FURTHER INFORMATION CONTACT: Janet M. Hart, telephone 202-720-8525.

SUPPLEMENTARY INFORMATION: This action has been reviewed and determined not to be a rule or regulation as defined in Executive Order 12866 and Departmental Regulation 1512-1; therefore, the Executive Order and Departmental Regulation do not apply to this action.

In the December 1, 1999, Federal Register (64 FR 67246), GIPSA announced the designation of Springfield to provide official inspection services under the Act, effective March 1, 2000, and ending December 31, 2002. Subsequently, Springfield asked GIPSA to amend their designation to include official weighing services. Section 7A(c)(2) of the Act authorizes GIPSA's Administrator to designate authority to perform official weighing to an agency providing official inspection services within a specified geographic area, if such agency is qualified under Section 7(f)(1)(A) of the Act. GIPSA evaluated all available information regarding the designation criteria in Section 7(f)(1)(A) of the Act, and determined that Springfield is qualified to provide official weighing services in their currently assigned geographic area.

Effective March 1, 2000, and terminating December 31, 2002 (the end of Springfield's designation to provide official inspection services), Springfield's present designation is amended to include Class X or Class Y weighing within their assigned geographic area, as specified in the July 1, 1999, Federal Register (64 FR 35586). Official services may be obtained by contacting Springfield at 217-522-5233.

Authority: Pub. L. 94-582, 90 Stat. 2867, as amended (7 U.S.C. 71 et seq.).

Dated: February 4, 2000.
Neil E. Porter,
Director, Compliance Division.

[FR Doc. 00-4680 Filed 2-29-00; 8:45 am]

BILLING CODE 3410-EN-P